DEPARTMENT OF EDUCATION

National Advisory Council on Indian Education Meeting Notice

AGENCY: National Advisory Council on Indian Education (NACIE), U.S. Department of Education.

ACTION: Announcement of closed video/teleconference meetings.

SUMMARY: This notice sets forth the schedule of an upcoming closed meeting of NACIE. Notice of the meeting is required by Section 10(a)(2) of the Federal Advisory Committee Act. In order to ensure there are sufficient members in attendance to meet the quorum requirement, this notice is being published in less than 15 calendar days prior to the scheduled meeting dates.

DATES: The NACIE video/teleconference meetings will be held on November 29, 2016 and November 30, 2016, from 1:00 p.m.-4:00 p.m. Eastern Daylight Saving Time.

FOR FURTHER INFORMATION CONTACT: Tina Hunter, Designated Federal Official, Office of Elementary and Secondary Education, U.S. Department of Education, 400 Maryland Avenue SW., Washington, DC 20202. Telephone: 202-205-8527. Fax: 202-205-0310.

SUPPLEMENTARY INFORMATION: NACIE's Statutory Authority and Function: NACIE is authorized by Section 6141 of the Elementary and Secondary Education Act of 1965 (ESEA), as amended by the Every Student Succeeds Act (ESSA), 20 U.S.C. 7471. NACIE is governed by the provisions of the Federal Advisory Committee Act (FACA), 5 U.S.C. App. 2, which sets forth requirements for the formation and use of advisory committees. NACIE is established within the Department of Education (Department) to advise the Secretary of Education (Secretary) on the funding and administration (including the development of regulations, and administrative policies and practices) of any program over which the Secretary has jurisdiction and that includes Indian children or adults as participants or that may benefit Indian children or adults, including any program established under Title VI, Part A of the ESEA. NACIE also makes recommendations to the Secretary for filling the position of Director of Indian Education whenever a vacancy occurs. Finally, NACIE submits to the Congress, not later than June 30 of each year, a report on the activities of NACIE, including recommendations that NACIE considers appropriate for the improvement of Federal education programs that include Indian children or adults as participants, or that may benefit Indian children or adults, and recommendations concerning the funding of any such program.

Meeting Agenda: The purpose of the meetings is to discuss recommendations for the Secretary for filling the recently vacated position of Director of Indian Education. NACIE's discussions during the closed meetings will pertain solely to internal personnel rules and practices of an agency and information of a personal nature where disclosure would constitute a clearly unwarranted invasion of personal privacy. As such, the discussions are protected by exemptions 2 and 6 of Section 552b(c) of Title 5 of the United States Code.

Access to Records of the Meeting: The Department will post a closed meeting report on NACIE's Web site.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Ary Amerikaner,
Deputy Assistant Secretary, Delegated the Duties of Assistant Secretary for Elementary and Secondary Education.

[FR Doc. 2016-28713 Filed 11-28-16; 8:45 am]

BILLING CODE 4000-01-P